SMALL BUSINESS ADMINISTRATION

Senior Executive Service and Senior Level: Performance Review Board Members

AGENCY: U.S. Small Business Administration.

ACTION: Notice of members for the performance review board.

SUMMARY: The following individuals have been designated to serve on the PRB for the U.S. Small Business Administration.

Members:

1. Barbara Carson (Chair), Deputy Associate Administrator, Office of Government Contracting and Business Development

2. Allen Gutierrez, Associate Administrator, Office of Entrepreneurial Development

3. Christopher Gray, Deputy Chief of Staff, Office of the Administrator

4. Delorice Ford, Assistant Administrator, Office of Hearings and Appeals

5. Larry Stubblefield, Associate Administrator, Office of Veterans Business Development

6. Michael Hershey, Associate Administrator, Office of Congressional and Legislative Affairs

7. Tami Perriello, Chief Financial Officer, Office of Performance Management and Chief Financial Officer

8. Victor Parker, Deputy Associate Administrator, Office of Field Operations

SUPPLEMENTARY INFORMATION: Title 5 U.S.C. 4314(c) (4) requires each agency to publish notification of the appointment of individuals who may serve as members of that agency's Performance Review Board (PRB).

Jovita Carranza,
Administrator.

[FR Doc. 2020-21915 Filed 10-5-20; 8:45 am]

BILLING CODE 8026-03-P